DEPARTMENT OF THE INTERIOR

Bureau of Indian Affairs

Privacy Act of 1974, as Amended; Establishment of a New System of Records

AGENCY: Bureau of Indian Affairs, Interior.

ACTION: Notice of addition of a new system of records.

SUMMARY: The Department of the Interior (DOI), Bureau of Indian Affairs (BIA) is issuing public notice of its intent to add a new Privacy Act system of records to its inventory of records systems subject to the Privacy Act of 1974 (5 U.S.C. 552a). This action is necessary to meet the requirements of the Privacy Act to publish in the Federal Register notice of the existence and character of records systems maintained by the agency (5 U.S.C. 552a(e)(4)). This new Privacy Act system of records is entitled Interior, BIA-32, “Land Consolidation Tracking System” (LCTS).

DATES: Comments must be received by August 25, 2008.

ADDRESSES: Any persons interested in commenting on this new system of records may do so by submitting comments in writing to the Privacy Act Officer, 625 Herndon Parkway, Herndon, VA 20170, via fax to 703-735-4386, or by e-mail to Joan.Tyler@bia.gov.

FOR FURTHER INFORMATION CONTACT: For information regarding Interior, BIA-32, “Land Consolidation Tracking System” (LCTS), contact Melissa O'Connor, Program Assistant, BIA, Indian Land Consolidation Center, 721 W. Lakeshore Dr., Ashland, WI, 54806, or by e-mail at Melissa.O'Connor@bia.gov.

SUPPLEMENTARY INFORMATION: This notice is published pursuant to the Privacy Act of 1974 (5 U.S.C. 552a(e)(4)) and is in exercise of authority delegated by the Secretary of the Interior to the Assistant Secretary—Indian Affairs in 209 DM 8.1. This notice establishes the Privacy Act system of records entitled Interior, BIA-32, “Land Consolidation Tracking System” (LCTS).

The purpose of the LCTS is to provide the Indian Land Consolidation Program (ILCP) with an electronic means of tracking the land sale process. LCTS tracks the land sale process from initiation by the landowner until the sale is complete. The LCTS gives a land owner an updated status report on the sale of his/her land. It also provides the BIA with a means of tracking the paper documents that pertain to the sale and with management reports pertaining to the steps in the land sale process.

Dated: July 9, 2008.
George T. Skibine,
Acting Deputy Assistant Secretary for Policy and Economic Development—Indian Affairs.

SYSTEM NAME:

Land Consolidation Tracking System (LCTS)—Interior, BIA-32.

SYSTEM LOCATION:

Office of the Chief Information Officer, Office of Information Operations, Bureau of Indian Affairs, 625 Herndon Parkway, Herndon, VA 20170.

CATEGORIES OF INDIVIDUALS COVERED BY THE SYSTEM:

(1) Land owners who are sellers and clients of the LCTS process.

(2) Indian Land Consolidation Office (ILCO) staff whose office and work information is used to validate staffing requirements.

CATERGORIES OF RECORDS IN THE SYSTEM:

(1) The name, surname at birth if different from married name (if married), address, telephone number, Social Security Number, tribal enrollment number, gender, date of birth, date of death, mother's maiden name, and father's name of each Indian land owner.

(2) The land owner's fractionated interests by Land Area Code, ownership percentage, number of shares, equivalent acres, and value.

(3) Summaries of land tracts and locations for each individual land holder, location and summary information on the tracts and whether the land has mineral value or not.

(4) The information necessary to track information about the seller and document the interaction with ILCO.

(5) The status of land sales, metrics on the Indian Land Consolidation Act program to help determine the effectiveness of the program.

(6) The time spent and contribution value of support carried out by ILCO personnel in order to track Activity Based Costing Management.

(7) Information on the location of documents generated by the sale process that are needed by the members of the ILCO staff in order to continue a transaction or answer a question.

(8) Names and contact information for ILCO staff, which is used for tracking the land consolidation work and validating the staff requirements.

AUTHORITY FOR MAINTENANCE OF THE SYSTEM:

This system of records is maintained under the authority of 25 U.S.C. 1, 1a, 13; 18 U.S.C. 3055; 25 U.S.C. 480.

ROUTINE USES OF RECORDS MAINTAINED IN THE SYSTEM, INCLUDING CATEGORIES OF USERS AND THE PURPOSES OF SUCH USES:

The LCTS is primarily used to administer the Indian Land Consolidation Program by tracking the land sale process, providing the BIA with a means of tracking the paper documents that pertain to the land sale, and providing the land owner with status reports on the sale of his/her land. LCTS tracks the land sale process from initiation by the landowner until the sale is complete.

Disclosures outside the Department of the Interior may be made:

(1) To Tribes that compact, contract, or enter into cooperative agreements with the BIA.

(2) (a) To any of the following entities or individuals, when the circumstances set forth in paragraph (b) are met:

(i) The Department of Justice (DOJ);

(ii) A court, adjudicative or other administrative body;

(iii) A party in litigation before a court or adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purposes for which the records were compiled.

(3) To a congressional office in response to a written inquiry that an individual covered by the system, or the heir of such individual if covered individual is deceased, has made to the office.

(4) To any criminal, civil, or regulatory law enforcement authority (whether Federal, State, territorial, local, tribal, or foreign) when a record, either alone or in conjunction with other information, indicates a violation or potential violation of law—criminal, civil, or regulatory in nature, and the disclosure is compatible with the purpose for which the records were compiled.

(5) To an official of another Federal agency to provide information needed in the performance of official duties related to reconciling or reconstructing data files or to enable that agency to respond to an inquiry by the individual to whom the record pertains.

(6) To Federal, State, territorial, local, tribal, or foreign agencies that have requested information relevant or necessary to the hiring, firing, or retention of an employee or contractor, or the issuance of a security clearance, license, contract, grant, or other benefit, when the disclosure is compatible with the purpose for which the records were compiled.

(7) To representatives of the National Archives and Records Administration to conduct records management inspections under the authority of 44 U.S.C. 2904 and 2906.

(8) To State and local governments and tribal organizations to provide information needed in response to court order and/or discovery purposes related to litigation, when the disclosure is compatible with the purpose for which the records were compiled.

(9) To an expert, consultant, or contractor (including employees of the contractor) of DOI that performs services requiring access to these records on DOI's behalf to carry out the purposes of the system.

(10) The appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made of such agencies, entities, and persons who are reasonably necessary to assist in connection with the Department's efforts to respond to the suspected or confirmed compromise and prevent, minimize, or remedy such harm.

(11) To the Office of Management and Budget during the coordination and clearance process in connection with legislative affairs as mandated by OMB Circular A-19.

(12) To the Department of the Treasury to recover debts owed to the United States.

(13) To the news media when the disclosure is compatible with the purpose for which the records were compiled.

DISCLOSURES TO CONSUMER REPORTING

Pursuant to 5 U.S.C. 552a(b)(12), records can be disclosed to consumer reporting agencies as they are defined by the Fair Credit Reporting Act (15 U.S.C. 1681a(f)) or the Federal Claims Collection Act of 1966 (31 U.S.C. 3701(a)(3)).

POLICIES AND PRACTICES FOR STORING, RETRIEVING, ACCESSING, RETAINING, AND DISPOSING OF RECORDS IN THE SYSTEM:

STORAGE:

Paper records are maintained in manual form in file folders. Electronic data extracted from title documents pertaining to land owners, land ownership, conveyances, encumbrances, valuation and income, are maintained on electronic media (e.g., tape, disk, and other digital or electronic media.)

RETRIEVABILITY:

Manual records are retrievable by the surname of the land owner. Electronic records are retrievable from LCTS by name, Social Security Number, tribal enrollment number, mother's maiden name, or date of birth.

SAFEGUARDS:

LCTS is maintained with controls meeting safeguard requirements identified in Departmental Privacy Act Regulations (43 CFR 2.51) for manual and automated records. Access to records is limited to authorized personnel whose official duties require such access; agency officials have access only to records pertaining to their agencies.

(1) Physical Security: Paper or electronic format records are maintained in locked file cabinets and/or in secured rooms.

(2) Technical Security: Electronic records are maintained in conformity with Office of Management and Budget and Departmental guidelines reflecting the implementation of the Federal Information Security Management Act. Electronic data is protected through user identification, passwords, database permissions, and software controls. These security measures establish different degrees of access for different types of users. An audit trail is maintained and reviewed periodically to identify unauthorized access. A Privacy Impact Assessment was completed for LCTS and is updated at least annually to ensure that Privacy Act requirements and personally identifiable information safeguard requirements are met.

(3) Administrative Security: All DOI and contractor employees with access to LCTS are required to complete Privacy Act, Records Management Act, and Security Awareness Training.

RETENTION AND DISPOSAL:

Records relating to individuals covered by this system are retained in accordance with the 16 Bureau of Indian Affairs Manual (BIAM), as approved by the National Archives and Records Administration, and, as such, are scheduled for permanent retention.

SYSTEM MANAGER(S) AND ADDRESS:

Program Assistant, BIA, Indian Land Consolidation Office, 721 W. Lakeshore Dr., Ashland, WI 54806.

NOTIFICATION PROCEDURES:

Inquiries regarding the existence of records should be addressed to the System Manager. The request must be in writing, signed by the requester, and meet requirements of 43 CFR 2.60.

RECORDS ACCESS PROCEDURES:

A request for access should be addressed to the System Manager. The request must be in writing, signed by the requester, and meet the requirements of 43 CFR 2.63.

CONTESTING RECORD PROCEDURES:

A petition for amendment should be addressed to the System Manager. The request must be in writing, signed by the requester, and meet the content requirements of 43 CFR 2.71.

RECORD SOURCE CATEGORIES:

Source information includes information taken from individuals and information manually extracted from other in-house BIA records, such as realty and probate records. Source information also includes county assessor, title company, and tribal documents, and documents collected from the Department of Treasury and from native allotment files.

EXEMPTIONS CLAIMED FOR THE SYSTEM:

None.

[FR Doc. E8-16106 Filed 7-14-08; 8:45 am]

BILLING CODE 4312-RY-P